LEGAL SERVICES CORPORATION

Sunshine Act Meeting

ACTION: Notice; correction.

SUMMARY: The Legal Services Corporation (Corporation) published a document in the Federal Register on June 6, 2016, announcing the June 17, 2016 meeting of the Finance Committee of the Corporation's Board of Directors. The document contained an error in one of the agenda items.

FOR FURTHER INFORMATION CONTACT: Katherine Ward, Executive Assistant to the Vice President & General Counsel, at (202) 295-1500. Questions may be sent by electronic mail to FR_NOTICE_QUESTIONS@lsc.gov.

Correction

In the Federal Register of June 6, 2016, in FR Doc. 2016-13404, on page 36351, in the first column, under the heading “Matters to be Considered,” correct the third item to read:

3. Public comment regarding LSC's fiscal year 2018 budget request

Dated: June 15, 2016.
Stefanie K. Davis,
Assistant General Counsel.

[FR Doc. 2016-14466 Filed 6-15-16; 11:15 am]

BILLING CODE 7050-01-P